DEPARTMENT OF DEFENSE

Department of the Navy

Notice of Availability of Government-Owned Inventions; Available for Licensing

AGENCY: Department of the Navy, DoD.

ACTION: Notice.

SUMMARY: The inventions listed below are assigned to the U.S. Government as represented by the Secretary of the Navy and are available for domestic and foreign licensing by the Department of the Navy.

U.S. Patent No. 6,865,455: MAGNETIC ANOMALY GUIDANCE SYSTEM AND METHOD.//U.S. Patent No. 6,868,360: SMALL HEAD-MOUNTED COMPASS SYSTEM WITH OPTICAL DISPLAY.//U.S. Patent No. 6,868,197: CONNECTOR-LESS HIGH SPEED UNDERWATER DATA INTERFACE.//U.S. Patent No. 6,870,534: METHOD OF SIMULATING EXPLOSIVE PERFORMANCE.//U.S. Patent No. 6,879,544: MANATEE VOCALIZATION DETECTION METHOD AND SYSTEM.//U.S. Patent No. 6,879,397: LIGHT SCATTERING DETECTOR.//U.S. Patent No. 6,879,547: COMBINED STABILIZATION BRACKET AND MINE SYSTEM FOR GATHERING UNDERSEA DATA.//U.S. Patent No.6,883,390: INSTRUMENT FOR MEASURING WATER-SPRAY BLAST FORCE.//U.S. Patent No. 6,888,353: MAGNETIC ANOMALY HOMING SYSTEM AND METHOD USING MAGNETIC TOTAL FIELD SCALARS.//U.S. Patent No. 6,893,540: HIGH TEMPERATURE PELTIER EFFECT WATER DISTILLER.//U.S. Patent No. 6,907,326: AUTONOMOUS SURF ZONE LINE CHARGE DEPLOYMENT SYSTEM.//U.S. Patent No. 6,927,790: DIGITAL CAMERA SYSTEM PROVIDING FOR CONTROL OF A CAMERA'S OPERATIONAL PARAMETERS AND IMAGE CAPTURE.//U.S. Patent No. 6,931,339: COMPASS AND COMMUNICATION SYSTEM.//U.S. Patent No. 6,934,633: HELMET-MOUNTED PARACHUTIST NAVIGATION SYSTEM.//U.S. Patent No. 6,944,816: AUTOMATED SYSTEM FOR PERFORMING KEPNER TREGOE ANALYSIS FOR SPREAD SHEET OUTPUT.//U.S. Patent No. 6,945,187: INSTRIDE INFLATABLE AUTONOMOUS FUEL DEPOT.//U.S. Patent No. 6,957,132: METHOD OF GUIDING A VEHICLE TO A POSITION.//U.S. Patent No. 6,957,651: SYSTEM FOR SIMULATING METABOLIC CONSUMPTION OF OXYGEN.//U.S. Patent No. 6,963,263: NON-CONTACT ELECTRICAL ENERGY TRANSFER SYSTEM.//U.S. Patent No. 6,970,578: METHOD OF GENERATING IMAGES TO AID IN THE DETECTION OF MANMADE OBJECTS IN CLUTTERED UNDERWATER ENVIRONMENTS.//U.S. Patent No. 6,982,790: COHERENT IMAGING IN TURBID MEDIA.//U.S. Patent No. 6,990,239: FEATURE-BASED DETECTION AND CONTEXT DISCRIMINATE CLASSIFICATION FOR KNOWN IMAGE STRUCTURES.//U.S. Patent No. 6,994,048: FLOATING LOW DENSITY CONCRETE BARRIER.//U.S. Patent No. 6,997,218: INFLATABLE BODY ARMOR SYSTEM.//U.S. Patent No. 6,999,624: CONTEXT DISCRIMINATE CLASSIFICATION FOR DIGITAL IMAGES.//U.S. Patent No. 6,999,625: FEATURE-BASED DETECTION AND CONTEXT DISCRIMINATE CLASSIFICATION FOR DIGITAL IMAGES.//U.S. Patent No. 7,002,681: SPECTROSCOPY SYSTEM FOR THE DETECTION OF CHEMICALS.//U.S. Patent No. 7,004,039: AMBIENT PRESSURE COMPENSATED TACTILE SENSOR.//U.S. Patent No. 7,010,401: SYSTEM FOR GUIDING A VEHICLE TO A POSITION.//U.S. Patent No. 7,007,569: TELESCOPING AND LOCKING LEVER ARM.//U.S. Patent No. 7,025,931: METHOD AND SYSTEM FOR REDUCING OXYGEN IN A CLOSED ENVIRONMENT.//U.S. Patent No. 7,036,894: TANDEM DRIVE FOR TRACKED VEHICLES.//U.S. Patent No. 7,038,458: MAGNETIC ANOMALY HOMING SYSTEM AND METHOD USING ROTATIONALLY INVARIANT SCALAR CONTRACTIONS OF MAGNETIC GRADIENT TENSORS.//U.S. Patent No. 7,038,639: DISPLAY SYSTEM FOR FULL FACE MASKS.//U.S. Patent No. 7,039,367: COMMUNICATIONS USING UNMANNED SURFACE VEHICLES AND UNMANNED MICRO-AERIAL VEHICLES.//U.S. Patent No. 7,039,506: LIGHT SYSTEM FOR DEFINING LINE OF APPROACH.//U.S. Patent No. 7,068,819: SYSTEM FOR STORING GEOSPECIFIC DATA.//

ADDRESSES: Requests for copies of the patents cited should be directed to Office of Counsel, Naval Surface Warfare Center Panama City, 110 Vernon Ave., Panama City, FL 32407-7001.

FOR FURTHER INFORMATION CONTACT: Mr. James Shepherd, Patent Counsel, Naval Surface Warfare Center Panama City, 110 Vernon Ave., Panama City, FL 32407-7001, telephone 850-234-4646.

(Authority: 35 U.S.C. 207, 37 CFR Part 404)

Dated: September 18, 2006.
M. A. Harvison,
Lieutenant Commander, Judge Advocate General's Corps, U.S. Navy, Federal Register Liaison Officer.

[FR Doc. E6-15702 Filed 9-25-06; 8:45 am]

BILLING CODE 3810-FF-P